DEPARTMENT OF HEALTH AND HUMAN SERVICES

[Document Identifier OMB No. 0990-0376; 60-day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Generic Clearance for Communications Testing for Comprehensive Communication Campaign for HITECH Act—Revision—OMB No. 0990-0376—Office of the National Coordinator for Health Information Technology.

Abstract: As part of the Health Information Technology for Economic and Clinical Health Act (HITECH Act) of 2009, ONC is proposing to conduct a nationwide communication campaign to meet the Congressional mandate to educate the public about privacy and security of electronically exchanged personal health information. ONC requires formative and process information about different segments of the public to conduct the campaign effectively. Data collection will occur continuously through the 24 months of the campaign and be used to inform campaign strategies, messages, materials and Web sites. Due to the growing use of mobile devices in exchanging personal health information electronically, ONC is proposing a revision of the currently approved collection to increase focus group burden hours and explore consumer attitudes and preferences regarding the communication of personal health information electronically using mobile devices. Additionally, an increase in burden hours is necessary to understand attitudes and preferences regarding how privacy and security information is presented to consumers electronically. ONC is collaborating with the HHS Office of Civil Rights to oversee the education and communication activities to build approval for HIT adoption and meaningful use, educate the public about privacy and security and increase participation in health information exchange.

Electronic health information exchange promises an array of potential benefits for individuals and the U.S. health care system through improved health care quality, safety, and efficiency. At the same time, this environment also poses new challenges and opportunities for protecting health information, including methods for individuals to engage with their health care providers and affect how their health information may be exchanged.

Estimated Annualized Burden Table
Forms | Type of respondent | Number of respondents | Number of responses per respondent | Average burden (in hours) per response | Total burden hours
Focus Group | General Public | 621 | 1 | 1.5 | 932
Focus Group screening | General Public | 5544 | 1 | 10/60 | 924
Web usability testing | General Public | 144 | 1 | 1.5 | 216
Web usability screening | General Public | 2160 | 1 | 10/60 | 360
Self-Administered Surveys | General Public | 2000 | 1 | 15/60 | 500
Self-Administered survey screening | General Public | 8000 | 1 | 10/60 | 1333
Omnibus Surveys | General Public | 2000 | 1 | 10/60 | 333
Cognitive testing | General Public | 25 | 1 | 2 | 50
Focus Group | Health Professional | 288 | 1 | 1.5 | 432
Screening | Health Professional | 4320 | 1 | 10/60 | 720
Web usability testing | Health Professional | 144 | 1 | 1.5 | 216
Screening | Health Professional | 2160 | 1 | 10/60 | 360
Self-Administered Surveys | Health Professional | 2000 | 1 | 15/60 | 500
Screening | Health Professional | 8000 | 1 | 10/60 | 1333
Omnibus Surveys | Health Professional | 2000 | 1 | 10/60 | 333
In-Depth Interviews | Health Professional | 100 | 1 | 45/60 | 75
Screening | Health Professional | 1000 | 1 | 10/60 | 167
Total (Overall) |  | 40,506 |  |  | 8,784

Keith A. Tucker,
Office of the Secretary, Paperwork Reduction Act Clearance Officer.

[FR Doc. 2011-28284 Filed 10-31-11; 8:45 am]

BILLING CODE 4150-45-P